DEPARTMENT OF AGRICULTURE

Forest Service

Southwest Washington Provincial Advisory Committee Meeting Notice

AGENCY: Forest Service, USDA.

ACTION: Notice of meeting.

SUMMARY: The Southwest Washington Provincial Advisory Committee will meet on Wednesday, March 31, 2004, at the Gifford Pinchot National Forest Headquarters, located in Vancouver, Washington, at 10600 NE. 51st Circle, Vancouver, WA 98682. The meeting will begin at 9 a.m., and continue until 4 p.m.

The purpose of the meeting is to: Receive advice on the Forest's unmanaged recreation program; to receive advice on the Forest's Memorandum of Agreement with the Washington State Department of Ecology; to discuss a proposed expansion of the White Pass Ski Area, and to share information among members.

All Southwest Washington Province Advisory Committee meetings are open to the public. Interested citizens are encouraged to attend. The “open forum” provides opportunity for the public to bring issues, concerns, and discussion topics to the Advisory Committee. The “open forum” is scheduled to occur at 1 p.m. Interested speakers will need to register prior to the open forum period. The committee welcomes the public's written comments on committee business at any time.

FOR FURTHER INFORMATION CONTACT: Direct questions regarding this meeting to Tom Knappenbeger, Public Affairs Officer, at (360) 891-5005, or write Forest Headquarters Office, Gifford Pinchot National Forest, 10600 NE. 51st Circle, Vancouver, WA 98682.

Dated: March 15, 2004.
Claire Lavendel,
Forest Supervisor.

[FR Doc. 04-6173 Filed 3-18-04; 8:45 am]

BILLING CODE 3410-11-M